DEPARTMENT OF HOMELAND SECURITY

Coast Guard

33 CFR Part 117

[Docket No. USCG-2015-0361]

Drawbridge Operation Regulation; Charenton Canal, Baldwin, LA

AGENCY: Coast Guard, DHS.

ACTION: Notice of deviation from drawbridge regulations.

SUMMARY: The Coast Guard has issued a temporary deviation from the operating schedule that governs the Burlington Northern Santa Fe (BNSF) Railway Company swing span bridge across Charenton Canal, mile 0.4, at Baldwin, St. Mary Parish, Louisiana. The deviation is necessary to complete scheduled repairs for the continued safe operation of the bridge. This deviation will allow the bridge to remain in the closed-to-navigation position for six consecutive hours.

DATES: This deviation is effective from 7 a.m. through 1 p.m. on Thursday, May 21, 2015.

ADDRESSES: Documents mentioned in this preamble are part of docket [USCG-2015-0361]. To view documents mentioned in this preamble as being available in the docket, go to http://www.regulations.gov, type the docket number (USCG-2015-0361) in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Geri Robinson, Bridge Administration Branch, Coast Guard; telephone 504-671-2128, email d8dpball@uscg.mil. If you have questions on viewing the docket, call Cheryl Collins, Program Manager, Docket Operations, telephone 202-366-9826.

SUPPLEMENTARY INFORMATION: The BNSF Railway Company has requested a temporary deviation from the operating schedule of the swing span railroad bridge across the Charenton Canal, mile 0.4, at Baldwin, St. Mary Parish, Louisiana. The bridge provides 10 feet of vertical clearance in the closed-to-navigation position. Due to the type of equipment being used and safety concerns, vessels will not be allowed to pass under the bridge while in the closed-to-navigation position. However, the bridge will be able to open in the event of an emergency.

Navigation on the waterway consists of tugs with tows, fishing vessels, and recreational craft including sailboats and powerboats. An alternate route is available for mariners through the Berwick Locks. The alternate waterway route takes about 45 minutes to transit. Due to prior experience, as well as coordination with waterway users, and the alternate route through Berwick Locks, it has been determined that this closure will not have a significant effect on these vessels.

In accordance with 33 CFR 117.5, the bridge currently opens on signal for the passage of vessels. This deviation allows the swing span of the bridge to remain in the closed-to-navigation position from 7 a.m. through 1 p.m. on Thursday, May 21, 2015.

The closure is necessary to weld four joints and install insulated joints on the bridge. Notices will be published in the Eighth Coast Guard District Local Notice to Mariners and will be broadcast via the Coast Guard Broadcast Notice to Mariners System.

In accordance with 33 CFR 117.35(e), the drawbridge must return to its regular operating schedule immediately at the end of the effective period of this temporary deviation. This deviation from the operating regulations is authorized under 33 CFR 117.35.

Dated: May 7, 2015.
David M. Frank,
Bridge Administrator, Eighth Coast Guard District.

[FR Doc. 2015-11438 Filed 5-11-15; 8:45 am]

BILLING CODE 9110-04-P